NUCLEAR REGULATORY COMMISSION

Potential Impact of Debris Blockage on Emergency Sump Recirculation at Pressurized-Water Reactors; Issue

AGENCY: Nuclear Regulatory Commission.

ACTION: Notice of issuance.

SUMMARY: The Nuclear Regulatory Commission (NRC) has issued Generic Letter (GL) 2004-02 to all holders of operating licenses for pressurized-water reactors (PWRs), except those who have permanently ceased operations and have certified that fuel has been permanently removed from the reactor vessel. The generic letter asks licensees of pressurized water nuclear power reactors to perform an evaluation and provide information that enables the NRC staff to verify whether licensees can demonstrate that their emergency core cooling system (ECCS) and containment spray system (CSS) are capable of performing their intended post-accident mitigating functions following a design basis accident requiring recirculation operation. The primary objective is to ensure that licensees are in compliance with the licensing and design bases requirements of their facilities with respect to the ECCS having the capability to provide long-term cooling of the reactor core following a loss of coolant accident (LOCA) as specified in the NRC regulations in title 10, of the Code of Federal Regulations section 50.46, 10 CFR 50.46.

DATES: This generic letter was issued on September 13, 2004.

ADDRESSES: Not applicable.

FOR FURTHER INFORMATION CONTACT: David Cullison, NRR, 301-415-1212 or by e-mail: dgc@nrc.gov.

SUPPLEMENTARY INFORMATION: Generic Letter 2004-02 may be examined and/or copied for a fee at the NRC's Public Document Room, located at One White Flint North, 11555 Rockville Pike (first floor), Rockville, Maryland, and is accessible electronically from the Agencywide Documents Access and Management Systems (ADAMS) Public Electronic Reading Room on the Internet at the NRC Web site, http://www.nrc.gov/reading-rm/adams.html. The ADAMS Accession No. for the generic letter is ML042360586.

If you do not have access to ADAMS or if there are problems in accessing documents located in ADAMS, contact the NRC Public Document Room (PDR) Reference staff at 301-415-4737 or 1-800-397-4209, or by e-mail to pdr@nrc.gov.

Dated in Rockville, Maryland, this 16th day of September, 2004.
For the Nuclear Regulatory Commission.
Francis M. Costello,
Acting Chief, Reactor Operations Branch, Division of Inspection Program Management, Office of Nuclear Reactor Regulation.

[FR Doc. 04-21343 Filed 9-22-04; 8:45 am]

BILLING CODE 7590-01-P